DEPARTMENT OF TRANSPORTATION

Transportation Border Congestion Relief Program

AGENCY: Department of Transportation (DOT).

ACTION: Notice; announcement of the designated projects under the Transportation Border Congestion Relief Program.

SUMMARY: The Department of Transportation (DOT) announces the selection of the Transportation Border Congestion Relief (TBCR) Program applications to be designated as the TBCR Projects. The DOT has identified three surface transportation projects, two on the United States/Mexico border and one on the United States/Canada border, which can help improve border travel times.

FOR FURTHER INFORMATION CONTACT: Mr. Marcus J. Lemon, Chief Counsel and Ms. Alla C. Shaw, Special Counsel, (202) 366-0740, Alla.Shaw@dot.gov, HCC-3, Room E84-301, 1200 New Jersey Avenue, SE., Washington, DC 20590, HCC Team Leader, or Mr. Roger Petzold, Team Leader, Border, Interstate, and GIS Program, (202) 366-4074, Roger.Petzold@dot.gov, HEPI-10, Room E74-312, 1200 New Jersey Avenue, SE., Washington, DC 20590. Office hours are from 7:30 a.m. to 5 p.m., e.t., Monday through Friday, except Federal holidays.

SUPPLEMENTARY INFORMATION: Electronic Access: An electronic copy of this document may also be downloaded from the Office of the Federal Register's home page at: http://www.archives.gov and the Government Printing Office's Web page at: http://www.access.gpo.gov/nara.

Background: On May 30, 2008, the DOT published a notice in the Federal Register seeking applications from interested international land border States, bridge, and tunnel operators, and private entities. (73 FR 31183). The DOT received 10 applications. The applications were reviewed for technical merit by a multiagency Technical Review Panel (TRP) comprised of staff from the DOT, the General Services Administration, and the U.S. Customs and Border Protection agency with expertise in the areas of project development and finance, infrastructure, and facility operation. The TRP evaluated each application based on the applicant's responsiveness to the elements set forth in the May 30 Federal Register notice. The TRP also noted factors affecting likelihood of success, such as the current status of the proposed project and the benefits of the project to its users and the economy. A second tier review of the applications was conducted by a Management Review Panel (MRP) comprised of senior DOT, Federal Highway Administration, Federal Motor Carrier Safety Administration, and Federal Railroad Administration staff. The MRP reviewed the TRP's preliminary assessments of the applications and evaluated each application against the primary goals of the TBCR Program: (1) Improved cross-border travel times (congestion reduction) and (2) use of innovative project delivery and finance. Based on the technical review conducted by TRP and further evaluation of the MRP, DOT identified three projects designated as the Transportation Border Congestion Relief Projects.

1. Cascade Gateway Expanded Cross-border Advanced Traveler Information System—Submitted by the Washington State Department of Transportation.

2. State Route 11/Otay Mesa East Port of Entry (San Diego, California)—Submitted by the California Department of Transportation.

3. East Loop Bypass Rail Crossing (Laredo, Texas)—Submitted by the Kansas City Southern Railway Company.

The DOT encourages State departments of transportation and other project sponsors to continue to advance those ideas contained in the applications that were not selected.

Authority: 49 U.S.C. 101.

Issued on: September 18, 2008.
Thomas J. Barrett,
Deputy Secretary.

[FR Doc. E8-25060 Filed 10-20-08; 8:45 am]

BILLING CODE 4910-22-P